DEPARTMENT OF HOUSING AND URBAN DEVELOPMENT

[Docket No. FR-5377-N-06]

Notice of Proposed Information Collection for Public Comment on the Housing Opportunities for Persons With AIDS (HOPWA) Program: Annual Performance Reporting Requirements and Competitive/Renewal Grant Budget Summary Forms

AGENCY: Office of the Assistant Secretary for Community Planning and Development, Office of HIV/AIDS Housing.

ACTION: Notice of proposed information collection.

SUMMARY: The proposed information collection requirement described below will be submitted to the Office of Management and Budget (OMB) for review, as required by the Paperwork Reduction Act. The Department is soliciting public comments on the subject proposal.

DATES: Comments Due Date: March 7, 2011.

ADDRESSES: Interested persons are invited to submit comments regarding this proposal. Comments should refer to the proposal by name or OMB Control number and should be sent to: Collette Pollard, Paperwork Reduction Act Officer, Office of Chief Information Officer, Department of Housing and Urban Development, 451 7th Street, SW., Room 4178, Washington, DC 20410-5000; telephone (202) 402-3400 (this is not a toll-free number) or e-mail Ms. Pollard Collette.Pollard@hud.gov for a copy of the proposed forms, or other available information.

FOR FURTHER INFORMATION CONTACT: David Vos, Director, Office of HIV/AIDS Housing, U.S. Department of Housing and Urban Development, 451 7th Street, SW., Room 7212, Washington, DC 20410; telephone (202) 402-4620 (this is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This Notice also lists the following information:

Title of Proposal: HOPWA Annual Performance Reporting Requirements and Competitive/Renewal Grant Budget Summary Forms.

Description of the need for the information and proposed use: These forms provide HUD with vital information to assess program evaluation and measure performance outcomes for the Housing Opportunities for Persons with AIDS (HOPWA) program. Competitive/Renewal grant recipients submit an Annual Progress Report (APR) and Formula grantees submit the Consolidated Annual Performance and Evaluation Report (CAPER). These annual reports provide HUD with information about program beneficiaries in addition to enabling HUD to assess the success of the HOPWA program through the three performance goals of housing stability, prevention of homelessness, and access to care and support. Information collected in the reports allows HUD to fulfill reporting requirements for internal reporting requirements, the Office of Management and Budget (OMB), and other entities.

OMB Control number: 2506-0133

Agency form number: HUD-40110-B HOPWA Competitive and Renewal of Permanent Supportive Housing Project Budget Summary; HUD-40110-C Annual Progress Report (APR); and HUD-40110-D Consolidated Annual Performance and Evaluation Report (CAPER).

Members of affected public: Formula and competitive grant recipients of the Housing Opportunities for Persons with AIDS (HOPWA) program.

Estimation of the total number of hours needed to prepare the information collection including number of respondents, frequency of response, and hours of response: APR (96 respondents and total annual responses × 55 hours per response = 5,280 hours) + CAPER (124 respondents and total annual responses × 40 hours per response = 4,960 hours) + HOPWA Competitive & Renewal of Permanent Supportive Housing Project Budget Summary (35 respondents and total annual responses × 12 hours per response = 420 hours) + Recordkeeping (255 respondents and total annual responses × 60 hours per response = 15,300) + Grant amendments and extensions (20 respondents and total annual responses × 20 hours per response = 400 hours) + Uniform relocation act appeals process (2 respondents and total annual responses × 8 hours per response = 16 hours) + Environmental Review Recordkeeping (10 respondents and total annual responses × 24 hours per response = 240 hours) = 26,616 hours.

Status of the proposed information collection: Revision of currently approved paperwork collection requirements, OMB number 2506-0133.

Authority: Section 3506 of the Paperwork Reduction Act of 1995, 44 U.S.C. Chapter 35, as amended.

Dated: November 1, 2010.
Jeanne Van Vlandren,
Acting General Deputy Assistant Secretary for Community Planning and Development.

[FR Doc. 2010-33216 Filed 1-3-11; 8:45 am]

BILLING CODE 4210-67-P